DEPARTMENT OF EDUCATION

Privacy Act of 1974; System of Records

AGENCY: Federal Student Aid, Department of Education.

ACTION: Notice of an altered system of records.

SUMMARY: In accordance with the Privacy Act of 1974, as amended (Privacy Act) 5 United States Code (U.S.C.) 552a, the Chief Operating Officer for Federal Student Aid (FSA) of the U.S. Department of Education (Department) publishes this notice proposing to revise the system of records for the Federal Student Financial Aid Application File (18-11-01), 64 FR 30159-30161 (June 4, 1999), as corrected by, 64 FR 72407 (December 27, 1999), as corrected by, 65 FR 11294 (March 2, 2000), as corrected by 66 FR 18758 (April 11, 2001). This system of records contains information provided by applicants for Title IV, HEA Program assistance, on the Free Application for Federal Student Aid (FAFSA). Among other purposes described in this notice, the information is maintained in order to determine an applicant's eligibility for the Federal student financial assistance programs authorized by Title IV of the HEA; make a loan, grant or scholarship, and verify the identity of the individual. This notice proposes to update the categories of records maintained in this system, to clarify the system's purposes, and to expand the routine uses to reflect needed programmatic disclosures.

DATES: We must receive your comments on or before January 28, 2010.

The Department filed a report describing the altered system of records covered by this notice with the Chair of the Senate Committee on Homeland Security and Governmental Affairs, the Chair of the House Committee on Oversight and Government Reform, and the Administrator of the Office of Information and Regulatory Affairs, Office of Management and Budget (OMB) on December 22, 2009. This altered system of records will become effective at the later date of— (1) The expiration of the 40-day period for OMB review on February 1, 2010, or the expiration of a 30 day OMB review period on January 21, 2010 if OMB grants the Department's request for a 10 day waiver of the review period; or (2) January 28, 2010, unless the system of records needs to be changed as a result of public comment or OMB review.

ADDRESSES: Address all comments about this altered system of records to: Director, Application Processing Division, Program Management Systems, Federal Student Aid, U.S. Department of Education, 830 First Street, NE., Room 63C4, Union Center Plaza (UCP), Washington, DC 20202. If you prefer to send your comments by e-mail, use the following address: comments@ed.gov.

You must include the term “Federal Student Aid Application File” in the subject line of your electronic message.

During and after the comment period, you may inspect all public comments about this notice in Room 63C5, Union Center Plaza, 6th floor, 830 First Street, NE., Washington, DC, between the hours of 8:00 a.m. and 4:30 p.m., local time, Monday through Friday except Federal holidays.

Assistance to Individuals With Disabilities in Reviewing the Rulemaking Record

On request we will supply an appropriate accommodation or auxiliary aid, such as a reader or print magnifier, to an individual with a disability who needs assistance to review the comments or other documents in the public rulemaking record for this notice. If you want to schedule an appointment for this type of accommodation or auxiliary aid, please contact the person listed under FOR FURTHER INFORMATION CONTACT.

FOR FURTHER INFORMATION CONTACT: Director, Application Processing Division, Program Management Systems, Federal Student Aid, U.S. Department of Education, 830 First Street, NE., Room 63C4, Union Center Plaza (UCP), Washington, DC 20202. Telephone: (202) 377-3205. If you use a telecommunications device for the deaf (TDD), you can call the Federal Relay Service (FRS), toll free, at 1-800-877-8339.

SUPPLEMENTARY INFORMATION:

Preamble

The Privacy Act of 1974 (5 U.S.C. 552a(e)(4)) requires the Department to publish in the Federal Register this notice of an altered system of records. The Department's regulations implementing the Privacy Act are contained in the Code of Federal Regulations (CFR) in 34 CFR part 5b.

The Privacy Act applies to a record about an individual that is maintained in a system of records from which information is retrieved by a unique identifier associated with the individual, such as a name or Social Security Number (SSN). The information about each individual is called a “record,” and the system, whether manual or computer-based, is called a “system of records”.

The Privacy Act requires each agency to publish notices of altered systems of records in the Federal Register and to prepare reports to Chair of the Committee on Oversight and Government Reform of the House of Representatives, and the Chair of the Committee on Homeland Security and Governmental Affairs of the Senate, and the Administrator of the Office of Information and Regulatory Affairs, OMB whenever the agency publishes a new system of records or significantly alters an established system of records.

A system of records is considered “altered” whenever an agency expands the types or categories of information maintained, significantly expands the types or categories of individuals about whom records are maintained, changes the purpose for which the information is used, changes the equipment configuration in a way that creates substantially greater access to the records, or adds a routine use disclosure to the system. Since the last correction to this system of records, which was published in the Federal Register on April 11, 2001 (66 FR 18758), a number of changes are needed to update the current system of records. This notice proposes to update the categories of records maintained in the system, to clarify the system's purposes, and to expand the programmatic routine use disclosures needed to carry out responsibilities under the Higher Education Act of 1965, as amended, (HEA).

This system of records would facilitate the Secretary of Education's performance of statutory duties to verify information submitted by applicants and parents of dependent applicants. The Secretary of Education, in cooperation with the Commissioner of the Social Security Administration, is required under the HEA, to verify Social Security Numbers (SSNs) submitted by applicants. In addition, the Secretary of Education is required to verify the immigration status of applicants through the use of computer matching. The Secretary also collects information on parent(s) of dependent applicants, including SSNs, dates of birth, first initials and last names. The Secretary verifies the SSN of a parent of a dependent applicant in the same manner that the SSN of an applicant is verified.

The changes proposed in the attached altered notice are intended to expand the information maintained in the system, to clarify the system's purposes, and to add routine uses to make disclosures needed to carry out statutory responsibilities contained in the system. Collectively, these revisions will enhance the ability of the Secretary to combat fraud, waste, and abuse in the Department's programs and operations and perform the statutorily required verification of data submitted by student aid applicants and the parent(s) of dependent applicants.

This system of records includes records on individuals who are applying for Title IV, HEA program assistance. The records contain individually identifying information about an applicant, including, but not limited to: an applicant's name, address, SSN, date of birth, citizenship status, status as a veteran, driver's license number, marital status, and income and asset information. This system also contains information provided by the parent(s) of a dependent applicant, including, but not limited to: Name, date of birth, marital status, SSN, highest level of schooling completed, e-mail address, and income and asset information. This system of records also contains information about the spousal income and asset information of a married applicant.

Accessible Format: Individuals with disabilities can obtain this document in an accessible format (e.g., braille, large print, audiotape, or computer diskette) on request to the contact person listed under FOR FURTHER INFORMATION CONTACT.

Electronic Access to This Document

You can view this document, as well as all other documents of this Department published in the Federal Register in text or Adobe Portable Document Format (PDF) on the Internet at the following site: http://www.ed.gov/news/fedregister/index.html.

To use PDF you must have Adobe Acrobat Reader, which is available free at this site.

Note: The official version of this document is the document published in the Federal Register. Free Internet access to the official edition of the Federal Register and the Code of Federal Regulations is available on GPO Access at: http://www.gpoaccess.gov/nara/index.html.

Dated: December 22, 2009.
William J. Taggart,
Chief Operating Officer, Federal Student Aid.

For the reasons discussed in the preamble, the Chief Operating Officer, Federal Student Aid, of the U.S. Department of Education (Education), publishes a notice of an altered system of records to read as follows:

SYSTEM NUMBER:

18-11-01

SYSTEM NAME:

Federal Student Aid Application File.

SECURITY CLASSIFICATION:

None.

SYSTEM LOCATION:

Virtual Data Center (VDC), 2300 W. Plano Parkway, Plano, TX, 75075 (Electronic records).

Vangent, 901 South 42nd Street, Mt Vernon, IL 62864 (Paper, Free Application for Federal Student Aid (FAFSA) Applications Storage Facility).

CATEGORIES OF INDIVIDUALS COVERED BY THE SYSTEM:

This system contains records on students who apply for Federal student financial assistance under the student financial assistance programs authorized by Title IV of the Higher Education Act of 1965 (HEA), as amended (Title IV, HEA Programs). This system also contains information on the parent(s) of a dependent applicant and the spouse of a married applicant.

CATEGORIES OF RECORDS IN THE SYSTEM:

This system of records contains information provided by applicants for Title IV, HEA Program assistance, on the Free Application for Federal Student Aid (FAFSA) including, but not limited to, the applicant's name, address, Social Security Number (SSN), date of birth, telephone number, driver's license number, e-mail address, citizenship status, marital status, legal residence, status as a veteran, educational status, and financial data. This system also contains information provided about the parent(s) of a dependent applicant, including, but not limited to, the parent's highest level of schooling completed, marital status, SSN, last name and first initial, date of birth, e-mail address, number in household supported by the parent, and income and asset information. For an applicant who is married, this system of records also contains spousal income and asset information.

While using this system to analyze its student population data for verification selection via the Institutional Student Information Record (ISIR) Analysis (IA) Tools product, postsecondary institution(s) attended by the applicant may create user defined fields with institutional data that is saved to the system. These data elements may consist of information that is privacy protected. Examples include, but are not limited to: the student's grade point average or information about a student's employment with the postsecondary institution.

Individually identifying information that is generated and maintained in the Federal Student Aid's Federal Student Aid Application File (18-11-01) within the Central Processing System (CPS) is covered by this system of records. The CPS determines an applicant's expected family contribution, which is used by the school to determine the student's eligibility for a Federal Pell Grant, and notifies an applicant via the Student Aid Report (SAR) and the schools identified on the applicant's FAFSA via the ISIR of discrepant or insufficient data, school adjustments, CPS assumptions, comment codes, and reject reasons. Other information that the CPS includes, but is not limited to: expected family contribution (EFC), Secondary EFC, dependency status, Federal Pell Grant Eligibility, Duplicate SSN, selection for verification, SAR C Flag, Simplified Needs Test (SNT) or Automatic Zero EFC (used for extremely low family income), CPS processing comments, reject codes (that explain why a record did not complete processing), assumptions made to the student's data due to incomplete or inconsistent FAFSA data, financial aid administrator's (FAA) adjustments including dependency status overrides, and CPS record processing information (application receipt date, transaction number, transaction process date, SAR Serial Number, Compute Number, Data Release Number (DRN), National Student Loan Database System (NSLDS) match results, bar code and transaction source).

Information from other Department systems, such as NSLDS, the Common Origination and Disbursement System (COD), the Student Aid Internet Gateway (SAIG), Participation Management System, is added to this system of records. The Appendix contains a more detailed description of the data added to this system of records as a result of the exchanges of data with other Department systems and the Department's computer matching programs with other Federal agencies.

AUTHORITY FOR MAINTENANCE OF THE SYSTEM:

Title IV of the Higher Education Act, as amended (20 U.S.C. 1001 et seq.).

PURPOSE(S):

The information contained in this system is maintained for the purposes of: (1) Assisting with the determination, correction, processing, tracking and reporting of program eligibility and benefits for the Federal student financial assistance programs authorized by Title IV of the HEA; (2) making a loan, grant or scholarship; (3) verifying the identity of the applicant, the spouse if applicable, and the parent(s) of a dependent applicant, and the accuracy of the information in this system; (4) reporting the results of the need analysis, Federal Pell Grant eligibility determination, and the results of duly authorized computer matching programs between the Department and other Federal agencies to applicants, postsecondary institutions, third-party servicers, State agencies designated by the applicant and other Departmental and investigative components for use in operating and evaluating the Title IV, HEA programs and in the imposition of criminal, civil, or administrative sanctions; (5) enforcing the terms and conditions of a Title IV loan or grant; (6) servicing and collecting a delinquent Title IV loan or grant; (7) initiating enforcement action against an individual involved in program fraud, abuse, or noncompliance; (8) locating a debtor; (9) maintaining a record of the data supplied by those requesting assistance; (10) ensuring compliance with and enforcing Title IV, HEA programmatic requirements; (11) acting as a repository and source for information necessary to fulfill the requirements of Title IV of the HEA; (12) evaluating Title IV program effectiveness; (13) enabling institutions of higher education designated by the applicant to review and analyze the financial aid data of their applicant population; and (14) assisting students with the completion of the application for the Federal student financial assistance programs authorized by Title IV of the HEA.

ROUTINE USES OF RECORDS MAINTAINED IN THE SYSTEM, INCLUDING CATEGORIES OF USES AND PURPOSES OF SUCH USES:

The Department may disclose information contained in a record in this system of records under the routine uses listed in this system of records without the consent of the individual if the disclosure is compatible with the purposes for which the record was collected. These disclosures may be made on a case-by-case basis, or, if the Department has complied with the computer matching requirements of the Act, under a computer matching agreement.

(1) Program Disclosures.

(a) To verify the identity of the applicant and the applicant's spouse, if applicable, and the parent(s) of a dependent applicant; to determine the accuracy of the information contained in the record; to support compliance with Title IV, HEA statutory and regulatory requirements; and to assist with the determination, correction, processing, tracking, and reporting of program eligibility and benefits, the Department may disclose records to guaranty agencies and financial institutions participating in the Federal Family Education Loan (FFEL) Programs, institutions of higher education, third-party servicers, and Federal and State agencies;

(b) To provide an applicant's financial aid history, including information about the applicant's Title IV, HEA loan defaults and Title IV, HEA grant program overpayments, the Department may disclose records to institutions of higher education, guaranty and State agencies and financial institutions participating in the FFEL Programs, and third-party servicers;

(c) To facilitate receiving and correcting application data, processing Federal Pell Grants and Direct Loans, and reporting Federal Perkins Loan Program expenditures to the Department's processing and reporting systems, the Department may disclose records to institutions of higher education, State agencies and third-party servicers;

(d) To assist loan holders with the collection and servicing of Title IV, HEA loans; to support pre-claims/supplemental pre-claims assistance; to assist in locating borrowers; and to assist in locating students who owe grant overpayments, the Department may disclose records to guaranty agencies and financial institutions participating in the FFEL Programs, institutions of higher education, third-party servicers, and Federal, State, and local agencies;

(e) To facilitate assessments of Title IV Program compliance, the Department may disclose records to guaranty agencies and financial institutions participating in the FFEL Programs, institutions of higher education, third-party servicers, and Federal, State, and local agencies;

(f) To assist in locating holders of loan(s), the Department may disclose records to student borrowers, guaranty agencies and financial institutions participating in the FFEL Programs, institutions of higher education, third-party servicers, and Federal, State, and local agencies;

(g) To assist in assessing the administration of Title IV program funds by guaranty agencies, financial institutions, institutions of higher education, and third-party servicers, the Department may disclose records to Federal and State agencies;

(h) To enforce the terms of a loan or grant or to assist in the collection of loan or grant overpayments, the Department may disclose records to guaranty agencies and financial institutions participating in the FFEL programs, institutions of higher education, third-party servicers, and Federal, State, and local agencies;

(i) To assist borrowers in repayment, the Department may disclose records to guaranty agencies and financial institutions participating in the FFEL program, institutions of higher education, third-party servicers, and Federal, State, and local agencies;

(j) To initiate legal action against an individual involved in illegal or unauthorized Title IV, HEA program expenditures or activities, the Department may disclose records to guaranty agencies and financial institutions participating in the FFEL programs, institutions of higher education, third-party servicers, and Federal, State, and local agencies;

(k) To initiate or support a limitation, suspension, or termination action, an emergency action, or a debarment or suspension action, the Department may disclose records to guaranty agencies and financial institutions participating in the FFEL programs, institutions of higher education, third-party servicers, and Federal, State, and local agencies;

(l) To investigate complaints, update files, and correct errors, the Department may disclose records to guaranty agencies and financial institutions participating in the FFEL programs, institutions of higher education, third-party servicers, and Federal, State, and local agencies;

(m) To inform the parent(s) of a dependent applicant, or a spouse of an applicant, of information about the parent(s) or spouse in an application for Title IV, HEA funds, the Department may disclose records to the parent(s) or the spouse, respectively;

(n) To disclose to the parent(s) of a dependent applicant applying for a PLUS loan (to be used on behalf of a student), to identify the student as the correct beneficiary of the PLUS loan funds, and to allow the processing of the PLUS loan application and promissory note, the Department may disclose records to the parent(s) applying for the PLUS loan;

(o) The Department, upon request by a third party, may disclose information to a third party for the purpose of expediting the student application process. The third party must provide the Department with the applicant's first and last name, SSN, date of birth, and Data Release Number (DRN). A DRN is a four-digit number assigned to an application by Federal Student Aid.

(p) The Department may disclose filing status information of an applicant who submits a FAFSA to an applicant's local educational agency and secondary school. This disclosure is for the purpose of allowing the applicant's local educational agency and secondary school to counsel the applicant whose submitted FAFSA may be incomplete or inaccurate and to offer the applicant assistance with completion.

(q) The Department may disclose information from this system of records to other Federal agencies, such as the Internal Revenue Service, to enable an applicant, should the applicant wish to do so, to obtain information from other Federal agencies' records that will assist the applicant in completing the FAFSA online.

(2) Disclosure for Use by Other Law Enforcement Agencies. The Department may disclose information to any Federal, State, or local or foreign agency or other public authority responsible for enforcing, investigating, or prosecuting violations of administrative, civil, or criminal law or regulation if that information is relevant to any enforcement, regulatory, investigative, or prosecutorial responsibility within the receiving entity's jurisdiction.

(3) Enforcement Disclosure. If information in the system of records either alone or in connection with other information indicates a violation or potential violation of any applicable statutory, regulatory, or legally binding requirement, the Department may disclose records to an entity charged with investigating or prosecuting those violations or potential violations.

(4) Litigation and Alternative Dispute Resolution (ADR) Disclosures.

(a) Introduction. In the event that one of the following parties is involved in litigation or ADR, or has an interest in litigation or ADR, the Department may disclose certain records to the parties described in paragraphs (b), (c) and (d) of this routine use under the conditions specified in those paragraphs:

(i) The Department or any of its components;

(ii) Any Department employee in his or her official capacity;

(iii) Any Department employee in his or her individual capacity where the Department of Justice (DOJ) agrees to or has been requested to provide or arrange for representation of the employee;

(iv) Any Department employee in his or her individual capacity where the Department has agreed to represent the employee;

(v) The United States, where the Department determines that the litigation is likely to affect the Department or any of its components.

(b) Disclosure to the DOJ. If the Department determines that disclosure of certain records to the DOJ is relevant and necessary to litigation or ADR, the Department may disclose those records as a routine use to the DOJ.

(c) Adjudicative Disclosures. If the Department determines that disclosure of certain records to an adjudicative body before which the Department is authorized to appear or to an individual or entity designated by the Department or otherwise empowered to resolve or mediate disputes is relevant and necessary to litigation or ADR, the Department may disclose those records as a routine use to the adjudicative body, individual or entity.

(d) Parties, Counsel, Representatives and Witnesses. If the Department determines that disclosure of certain records is relevant and necessary to litigation or ADR, the Department may disclose those records as a routine use to the party, counsel representative or witness.

(5) Freedom of Information Act (FOIA) Advice Disclosure. The Department may disclose records to the DOJ or to the Office of Management and Budget (OMB), if the Department determines that disclosure would help in determining whether records are required to be disclosed under the FOIA.

(6) Contracting Disclosure. If the Department contracts with an entity to perform any function that requires disclosing records to the contractor's employees, the Department may disclose the records to those employees. Before entering into such a contract, the Department shall require the contractor to establish and maintain the safeguards required under 5 U.S.C. 552a(m) of the Privacy Act with respect to the records.

(7) Congressional Member Disclosure. The Department may disclose records to a member of Congress in response to an inquiry from the member made at the written request of the individual whose records are being disclosed. The member's right to the information is no greater than the right of the individual who requested it.

(8) Employment, Benefit, and Contracting Disclosure.

(a) For Decisions by the Department. The Department may disclose a record to a Federal, State, or local agency maintaining civil, criminal, or other relevant enforcement or other pertinent records, or to another public authority or professional organization, if necessary to obtain information relevant to a Department decision concerning the hiring or retention of an employee or other personnel action, the issuance of a security clearance, the letting of a contract, or the issuance of a license, grant, or other benefit.

(b) For Decisions by Other Public Agencies and Professional Organizations. The Department may disclose a record to a Federal, State, local, or other public authority or professional organization, in connection with the hiring or retention of an employee or other personnel action, the issuance of a security clearance, the reporting of an investigation of an employee, the letting of a contract, or the issuance of a license, grant, or other benefit, to the extent that the record is relevant and necessary to the receiving entity's decision on the matter.

(9) Employee Grievance, Complaint or Conduct Disclosure. If a record is relevant and necessary to an employee grievance, complaint, or disciplinary action, the Department may disclose the record in the course of investigation, fact-finding, or adjudication to any witness, designated fact-finder, mediator, or other person designated to resolve issues or decide the matter.

(10) Labor Organization Disclosure. The Department may disclose records from this system of records to an arbitrator to resolve disputes under a negotiated grievance procedure or to officials of labor organizations recognized under 5 U.S.C. chapter 71 when relevant and necessary to their duties of exclusive representation.

(11) Disclosure to the DOJ. The Department may disclose records to the DOJ to the extent necessary for obtaining DOJ advice on any matter relevant to an audit, inspection, or other inquiry related to the programs covered by this system.

(12) Research Disclosure. The Department may disclose records to a researcher if the Department determines that the individual or organization to which the disclosure would be made is qualified to carry out specific research related to functions or purposes of this system of records. Further, the Department may disclose records from this system of records to that researcher solely for the purpose of carrying out that research related to the functions or purposes of this system of records. The researcher shall be required to maintain Privacy Act safeguards with respect to the disclosed records.

(13) Disclosure to the OMB for Federal Credit Reform Act (CRA) Support. The Department may disclose records to OMB as necessary to fulfill CRA requirements. These requirements currently include transfer of data on lender interest benefits and special allowance payments, defaulted loan balances, and supplemental pre-claims assistance payments information.

(14) Disclosures to third parties through computer matching programs. Any information from this system of records, including personal information obtained from other agencies through computer matching programs, may be disclosed to any third-party through a computer matching program in connection with an individual's application or participation in any grant or loan program administered by the Department. Purposes of these disclosures may be to determine program eligibility and benefits, enforce the conditions and terms of a loan or grant, permit the servicing and collecting of a loan or grant, counsel the individual in repayment efforts, investigate possible fraud and verify compliance with program regulations, locate a delinquent or defaulted debtor, or initiate legal action against an individual involved in program fraud or abuse.

(15) Disclosure in the Course of Responding to Breach of Data. The Department may disclose records from this system to appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

DISCLOSURE TO CONSUMER REPORTING AGENCIES:

Disclosures pursuant to 5 U.S.C. 552a(b)(12): The Department may disclose the following information to a consumer reporting agency regarding a valid overdue claim of the Department: (1) The name, address, taxpayer identification number and other information necessary to establish the identity of the individual responsible for the claim; (2) the amount, status, and history of the claim; and (3) the program under which the claim arose. The Department may disclose the information specified in this paragraph under 5 U.S.C. 552a(b)(12) and the procedures contained in subsection 31 U.S.C. 3711(e). A consumer reporting agency to which these disclosures may be made is defined at 31 U.S.C. 3701(a)(3).

POLICIES AND PRACTICES FOR STORING, RETRIEVING, ACCESSING, RETAINING, AND DISPOSING OF RECORDS IN THE SYSTEM:

STORAGE:

Paper applications are maintained in standard Federal Records Center boxes in locked storage rooms at the contractor facility in Mt. Vernon, Illinois and then moved to the Federal archives and maintained there.

Computerized applicant records, which include optically-imaged documents, are maintained on magnetic tape reels, cartridges and hard disks in the computer facility and locked storage rooms within the Virtual Data Center. Microfiche records maintained in the Washington, DC office are stored in a locked fireproof file cabinet. Access is available only to authorized personnel.

RETRIEVABILITY:

Records are indexed and retrieved by the applicant's SSN, name, and the academic year in which the applicant applied for Title IV, HEA program assistance.

SAFEGUARDS:

Physical access to the data systems housed within the VDC is controlled by a computerized badge reading system, and the entire complex is patrolled by security personnel during non-business hours. The computer system employed by the Department offers a high degree of resistance to tampering and circumvention. Multiple levels of security are maintained within the computer system control program. This security system limits data access to Department and contract staff on a “need-to-know” basis, and controls individual users' ability to access and alter records within the system. All users of this system of records are given a unique user ID with personal identifiers. All interactions by individual users with the system are recorded. Paper applications are maintained in standard Federal Records Center boxes in a locked storage room at the contractor facility in Mount Vernon, Illinois and then moved to the Federal archives and maintained there.

RETENTION AND DISPOSAL:

The Department will retain all identifiable CPS records for a period not to exceed 15 years after the end of the award year in accordance with the applicable Record Retention Schedule as approved by the National Archives and Records Administration. At the conclusion of the mandatory retention period, these records will be destroyed consistent with legal retention requirements established by the Department in conjunction with the National Archives and Records Administration.

SYSTEM MANAGER(S) AND ADDRESS:

Director, Application Processing Division, Program Management Systems, Federal Student Aid, U.S. Department of Education, 830 First St., NE., UCP Room 63C4, Washington, DC 20202.

NOTIFICATION PROCEDURE:

If you wish to determine whether a record exists regarding you in the system of records, contact the system manager and provide your name, date of birth, and SSN or call 1-800-4-FED-AID (1-800-433-3243) and give the same information. Requests for notification about whether the system of records contains information about an individual must meet the requirements of the regulations at 34 CFR 5b.5, including proof of identity.

RECORD ACCESS PROCEDURES:

If you wish to gain access to a record in this system, contact the system manager and provide information as described in the Notification Procedure. Requests by an individual for access to a record must meet the requirements of the regulations at 34 CFR 5b.5, including proof of identity.

CONTESTING RECORD PROCEDURES:

If you wish to contest the content of a record for the current processing year (which begins on January 1 of the calendar year and continues for 18 months until June 30 of the following calendar year) in the FAFSA, contact the system manager with the information described in the Notification Procedure, identify the specific items to be changed, and provide a justification for the change. Requests to amend a record must meet the requirements of regulations at 34 CFR 5b.7.

RECORD SOURCE CATEGORIES:

Applicants for Federal student financial aid, their spouses, if married, and the parent(s) of dependent applicants provide the information used in this system by filing a phone, paper, or electronic version of the FAFSA with the Department of Education. (The electronic FAFSA can be accessed at http://www.fafsa.ed.gov).

Postsecondary institutions designated by the applicant or third-party servicers designated by the postsecondary institution may correct the records in this system as a result of documentation provided by the applicant or by a dependent applicant's parents, such as Federal income return(s) (IRS Form 1040, IRS Form 1040A or IRS Form 1040EZ), Social Security card(s), and Department of Homeland Security I-551 Resident Alien cards.

This system contains information added during CPS processing and information received from other Department systems, including NSLDS, COD, and SAIG, Participation Management System. For more information about the information received from these other Department systems, see the Appendix.

The results of computer matching programs with the following Federal agencies are also added to the student's record during CPS processing: The Social Security Administration (SSA), the Department of Veterans Affairs (VA), the Selective Service System (SSS), the Department of Homeland Security (DHS), the DOJ, and the Department of Defense (DOD). For more information about the information received from these computer matching programs, see the Appendix.

EXEMPTIONS CLAIMED FOR THE SYSTEM:

None.

Appendix to 18-11-01

ADDITIONAL INFORMATION ABOUT CATEGORIES OF RECORDS IN THE SYSTEM AND RECORD SOURCE CATEGORIES:

Data provided to the Department as a result of computer matching with other Federal agencies is added during CPS processing. These computer matches are with the SSA to verify the SSNs, U.S. citizenship status and date of death (if applicable) of applicants, and dependent applicants' parents, pursuant to sections 428B(f)(2), 483(a)(12), and 484(g) and (p) of the HEA (20 U.S.C. 1078-2(f)(2), 1090(a)(12), and 1091(g) and (p)); the VA to verify the status of applicants who claim to be veterans, pursuant to section 480(c) and (d)(1)(D) of the HEA (20 U.S.C. 1087vv(c) and (d)(1)(D)); the SSS to confirm the registration status of male applicants, pursuant to section 484(n) of the HEA (20 U.S.C. 1091(n)); the DHS to confirm the immigration status of applicants for assistance as authorized by section 484(g) of the HEA (20 U.S.C. 1091(g)); the DOJ to enforce any requirement imposed at the discretion of a court, pursuant to section 5301 of the Anti-Drug Abuse Act of 1988, Public Law 100-690, as amended by section 1002(d) of the Crime Control Act of 1990, Public Law 101-647 (21 U.S.C. 862), denying Federal benefits under the programs established by Title IV of the HEA to any individual convicted of a State or Federal offense for the distribution or possession of a controlled substance; and the DOD to identify dependents of U.S. military personnel who died in service in Iraq and Afghanistan after September 11, 2001 to determine if they are eligible for increased amounts of Title IV, HEA program assistance, pursuant to sections 420R and 473(b) of the HEA (20 U.S.C. 1070h and 1087mm(b)).

During CPS processing, the Department's COD system sends information to this system for students who have received a Federal Pell Grant. The CPS uses this information for verification analysis and for end-of-year reporting. This data includes, but is not limited to: Verification Selection and Status, Potential Over-award Project (POP) indicator, School Cost of Attendance, Reporting and Attended Campus Pell ID and Enrollment Date, and Federal Pell Grant Program information (Scheduled Federal Pell Grant Award, Origination Award Amount, Total Accepted Disbursement Amount, Number of Disbursements Accepted, Percentage of Eligibility Used At This Attended Campus Institution, and Date of Last Activity from the Origination or Disbursement table).

CPS also receives applicant data from the Department's NSLDS System each time an application is processed or corrected. This process assesses student aid eligibility, updates financial aid history, and ensures compliance with Title IV, HEA regulations. Some of this data appears on the applicant's SAR and ISIR. Title IV, HEA award information is provided to NSLDS from several different sources. Federal Perkins Loan data and Federal Supplemental Educational Opportunity Grant (FSEOG) overpayment data is sent from postsecondary institutions or their third-party servicers; the Department's COD system provides Federal Pell Grant and Direct Loan data; State and Guaranty Agencies provide data on FFEL loans received from lending institutions participating in the FFEL programs.

Financial aid transcript data reported by NSLDS provides applicants, postsecondary institutions and third-party servicers with information about the type(s), amount(s), dates and overpayment status of prior and current Title IV, HEA funds the applicant received. FFEL and William D. Ford Federal Direct Student Loan (DL) data reported by NSLDS includes, but is not limited to: (1) Aggregate Loan Data, such as: Subsidized, Unsubsidized and Combined Outstanding Principal Balances, Unallocated Consolidated Outstanding Principal Balances, Subsidized, Unsubsidized and Combined Pending Disbursements, Subsidized, Unsubsidized and Combined Totals, and Unallocated Consolidated Total; (2) Detail Loan Data, such as: Loan Sequence Number, Loan Type Code, Loan Change Flag, Loan Program Code, Current Status Code and Date, Outstanding Principal Balance and Date, Net Loan Amount, Loan Begin and End Dates, Amount and Date of Last Disbursement, Guaranty Agency Code, School Code, Contact Code and Type, Grade Level; (3) system flags for: Additional Unsubsidized Loan, Capitalized Interest, Defaulted Loan Change, Discharged Loan Change, Loan Satisfactory Repayment Change, Active Bankruptcy Change, Overpayments Change, Aggregate Loan Change, Defaulted Loan, Discharged Loan, Loan Satisfactory Repayment, Active Bankruptcy, Additional Loans, DL Master Promissory Note, DL PLUS Loan Master Promissory Note, Subsidized Loan Limit, and the Combined Loan Limit. Federal Perkins Loan data reported by NSLDS includes, but is not limited to: Cumulative and Current Year Disbursement Amounts; flags for Perkins Loan Change, Defaulted Loan, Discharged Loan, Loan Satisfactory Repayment, Active Bankruptcy, Additional Loans, and Perkins Overpayment Flag and Contact (School or Region). Federal Pell Grant payment data reported includes, but is not limited to: Pell Sequence Number, Pell Attended School Code, Pell Transaction Number, Last Update Date, Scheduled Amount, Award Amount, Amount Paid to Date, Percent Scheduled Award Used, Pell Payment EFC, Flags for Pell Verification, Pell Payment Change. Federal Teacher Education Assistance for College and Higher Education (TEACH) Grant Program data includes, but is not limited to: TEACH Grant Overpayment Contact, TEACH Grant Overpayment Flag, and TEACH Grant Loan Principal Balance, TEACH Grant Total, Teach Grant change Flag. The National Science and Mathematics Access to Retain Talent Grant (SMART Grant) data includes, but is not limited to: SMART Grant Overpayment Flag, SMART Grant Overpayment Contact, and SMART Grant Change Flag. Iraq and Afghanistan Service Grants (IASG) data includes, but is not limited to: Total Award Amount. Academic Competitiveness Grant (ACG) data includes, but is not limited to: ACG Award Amount, ACG Overpayment Flag, and ACG Payment Change Flag. FSEOG data includes, but is not limited to: Overpayment Flag and contact information.

The Department obtains and exchanges information that is included in this system of records from postsecondary institutions, third-party servicers, State agencies and lending institutions that participate in the FFEL programs. The eligible entities (above) register with the SAIG to participate in the information exchanges specified for their business processes.

[FR Doc. E9-30691 Filed 12-28-09; 8:45 am]

BILLING CODE 4000-01-P